FEDERAL RESERVE SYSTEM

Privacy Act of 1974; System of Records

AGENCY: Board of Governors of the Federal Reserve System.

ACTION: Rescindment of a system of records notice.

SUMMARY: Pursuant to the provisions of the Privacy Act of 1974, notice is given that the Board of Governors of the Federal Reserve System (Board) proposes to rescind an existing system of records, entitled BGFRS-8, “FRB—Travel Records.” BGFRS-8 included travel authorization forms and supporting documentation, travel expense statements and supporting documentation, applications for government travel cards, records regarding Board reimbursement of travel expenses, and records regarding reservations for transportation and lodging sent to the Board's Travel Office.

DATES: January 30, 2023.

ADDRESSES: You may submit comments, identified by BGFRS-8 “FRB—Travel Records,” by any of the following methods:

• Agency Website: https://www.federalreserve.gov. Follow the instructions for submitting comments at https://www.federalreserve.gov/apps/foia/proposedregs.aspx.

• Email: regs.comments@federalreserve.gov. Include SORN name and number in the subject line of the message.

• Fax: (202) 452-3819 or (202) 452-3102.

• Mail: Ann E. Misback, Secretary, Board of Governors of the Federal Reserve System, 20th Street and Constitution Avenue NW, Washington, DC 20551.

All public comments will be made available on the Board's website at https://www.federalreserve.gov/apps/foia/proposedregs.aspx as submitted, unless modified for technical reasons or to remove sensitive personally identifiable information. Public comments may also be viewed electronically and printed in Room 146, 1709 New York Avenue NW, Washington, DC 20006, between 9 a.m. and 5 p.m. on weekdays.

FOR FURTHER INFORMATION CONTACT: David B. Husband, Senior Counsel, (202) 530-6270, or david.b.husband@frb.gov; Legal Division, Board of Governors of the Federal Reserve System, 20th Street and Constitution Avenue NW, Washington, DC 20551. For users of TDD, please dial 7-1-1 anywhere in the United States to access telecommunication relay services.

SUPPLEMENTARY INFORMATION: The Board is discontinuing BGFRS-8, “FRB—Travel Records” because the Board shifted its travel processes to the General Services Administration (GSA) E2 travel system in 2009. Therefore, the Board's current travel records are covered by the GSA government-wide system of records GSA/GOVT-4 Contracted Travel Services Program (E-Travel), which is published in the Federal Register at 74 FR 26700 (June 3, 2009). The retention periods for the Board's historic travel records expired in 2015 (six years after final payment or cancellation) or 2019 (for records related to overcharges or deductions). Thus, consistent with the applicable records retention schedule, the Board no longer retains or possesses historic travel records. Accordingly, the Board no longer requires BGFRS-8 “FRB-Travel Records,” and is providing notice of the discontinuation of this system.

SYSTEM NAME AND NUMBER:

BGFRS-8 “FRB—Travel Records.”

HISTORY:

This SORN was previously published in the Federal Register at 73 FR 24984 at 24993 (May 6, 2008). The SORN was also amended to incorporate two new routine uses required by OMB at 83 FR 43872 (August 28, 2018).

Board of Governors of the Federal Reserve System.
Ann Misback,
Secretary of the Board.

[FR Doc. 2023-01759 Filed 1-27-23; 8:45 am]

BILLING CODE P